DEPARTMENT OF COMMERCE

National Institute of Standards and Technology

International Code Council: The Update Process for the International Codes and Standards

AGENCY: National Institute of Standards and Technology, Commerce.

ACTION: Notice.

SUMMARY: The International Code Council (ICC), promulgator of the International Codes and Standards, maintains a process for updating the entire family of International Codes based on receipt of proposals from interested individuals and organizations involved in the construction industry as well as the general public. The codes are updated every three years.

The purpose of this notice is to increase public participation in the system used by ICC to develop and maintain its codes and standards. The publication of this notice by the National Institute of Standards and Technology (NIST) on behalf of ICC is being undertaken as a public service; NIST does not necessarily endorse, approve, or recommend any of the codes or standards referenced in the notice.

DATES: The date of the next Committee Action Hearings is April 21-30, 2013 in Dallas, TX at the Sheraton Dallas Hotel. This will be followed by the Public Comment Hearings October 2, 2013 in Atlantic City, New Jersey at the Atlantic City Convention Center.

ADDRESSES: Committee Action Hearings in Dallas, TX at the Sheraton Dallas Hotel and the Public Comment Hearings in Atlantic City, New Jersey at the Atlantic City Convention Center.

FOR FURTHER INFORMATION CONTACT: Mike Pfeiffer, PE, Deputy SVP, Technical Services,4051 West Flossmoor Road, Country Club Hills, Illinois 60478; Telephone 888-ICC-SAFE, Extension 4338. David F. Alderman, NIST, 100 Bureau Drive, MS 2100, Gaithersburg, MD 20899, email: david.alderman@nist.gov or by phone at 301-975-4019.

SUPPLEMENTARY INFORMATION:

Background

ICC produces the only family of Codes and Standards that are comprehensive, coordinated, and necessary to regulate the built environment. Federal agencies frequently use these codes and standards as the basis for developing Federal regulations concerning new and existing construction.

This is the second year of ICC's three year cycle. The fifteen International Codes are updated on a three year cycle where each code is updated in a specific year. In this current three year cycle, 5 codes were updated in 2012, 9 will be updated in 2013 and one will be updated in 2014. Completion of this cycle results in the 2015 edition of the International Codes which are scheduled to be published in the first half of 2014. For detailed information on the 2012/2013/2014 Cycle, including a list of codes to be updated and in which cycle, go to: http://www.iccsafe.org/cs/codes/Web pages/cycle.aspx.

The Code Development Process is initiated when proposals from interested persons, supported by written data, views, or arguments are solicited and published in the Code Change Agenda document. This document is posted a minimum of 30 days in advance of the Committee Action Hearing serves as the agenda.

At the Committee Action Hearing, the ICC Code Development Committee considers testimony on every proposal and acts on each one individually (Approval, Disapproval, or Approval as Modified). The results are published in a report entitled the Report of the Committee Action Hearing, which identifies the disposition of each proposal and the reason for the committee's action. Anyone wishing to submit a comment on the committee's action, expressing support or opposition to the action, is provided the opportunity to do so. Comments received are published and distributed in a document called the Public Comment Agenda which serves as the agenda for the second hearing called the Public Comment Hearing. As part of ICC's Governmental Consensus Process, at the Public Comment Hearing, only ICC's Governmental Members are permitted to vote as they have no vested interest other than health, safety and welfare in the enforcement of the code. Proposals which are approved at the Public Comment Hearing are incorporated in the subsequent Edition, with the next cycle starting with the submittal deadline for proposals.

International Code Council, 4051 W Flossmoor Road, Country Club Hills, Illinois 60478; or download a copy from the ICC Web site noted previously.

The International Codes and Standards consist of the following:

ICC Codes

International Building Code.

International Energy Conservation Code.

International Existing Building Code.

International Fire Code.

International Fuel Gas Code.

International Green Construction Code.

International Mechanical Code.

ICC Performance Code for Buildings and Facilities.

International Plumbing Code.

International Private Sewage Disposal Code.

International Property Maintenance Code.

International Residential Code.

International Swimming Pool and Spa Code

International Wildland-Urban Interface Code.

International Zoning Code.

ICC Standards

ICC A 117.1: Accessible and Usable Buildings and Facilities.

ICC 300: Standard on Bleachers, Folding and Telescopic Seating and Grandstands.

ICC 400: Standard on the Design and Construction of Log Structures.

ICC 500: ICC/NSSA Standard on the Design and Construction of Storm Shelters.

ICC 600: Standard for Residential Construction in High Wind Regions.

ICC 700: National Green Building Standard

The maintenance process for ICC Standards such as ICC A117.1 follows a similar process of soliciting proposals, committee action, public comment and ultimately the update and publication of the standard. ICC's Standard development process meets ANSI requirements for standard's development.

Dated: March 21, 2013.
Willie E. May,
Associate Director for Laboratory Programs.

[FR Doc. 2013-06909 Filed 3-25-13; 8:45 am]

BILLING CODE 3510-10-P